GENERAL SERVICES ADMINISTRATION

Privacy Act of 1974; Notice of Updated System of Records

AGENCY: General Services Administration.

ACTION: Notice of updated system of records.

SUMMARY: The General Services Administration (GSA) is providing notice of an update to the record system, Acquisition Career Management Information System (ACMIS) (GSA/OAP-2). The system collects information to track, verify, update, and manage the careers of Federal employees in acquisition occupations and to manage funds, size, and strength of the Federal acquisition workforce.

DATES: Effective Dates: The system of records will become effective without further notice on December 19, 2007 unless comments received on or before that date result in a contrary determination.

FOR FURTHER INFORMATION CONTACT: Call or e-mail the GSA Privacy Act Officer: telephone 202-208-1317; e-mail gsa.privacyact@gsa.gov/.

ADDRESSES: Comments may be submitted to the Director, Federal Acquisition Institute (MVI), General Services Administration, 9820 Belvoir Road, Bldg. 205, Fort Belvoir, VA 22060.

SUPPLEMENTARY INFORMATION: GSA reviewed this Privacy Act system of record to ensure that it is relevant, necessary, accurate, up-to-date, and covered by the appropriate legal or regulatory authority. Nothing in the updated system notice indicates a change in authorities or practices regarding the collection and maintenance of information. Nor do the changes impact individuals' rights to access or amend their records in the system of records. It also includes the new requirement from OMB Memorandum M-07-16 regarding a new routine use that allows agencies to disclose information in connection with a response and remedial efforts in the event of a data breach.

Dated: October 29, 2007.
Cheryl M. Paige,
Director, Office of Information Management.

GSA/OAP-2

System Name:

Acquisition Career Management Information System (ACMIS).

System location:

The system is maintained for GSA under contract. Contact the System Manager for additional information.

Categories of Individuals covered by the system:

Federal employees in acquisition and contracting jobs, including personnel in the 1100 occupational series, contracting officers, and other employees performing acquisition, contracting, and procurement functions for Federal agencies.

Categories of Records in the system:

The system contains information needed for managing the careers and training of employees in the Federal acquisition occupational field. Records may include but are not limited to: (1) Biographical data such as name, birth date, and educational level; (2) work related data such as service computation date and retirement information, duty station, occupational series and grade, and Social Security Number; and (3) training records.

Authority for maintenance of the system:

Section 37 of the Office of Federal Procurement Policy Act (41 U.S.C. 433).

Purposes:

To establish and maintain an electronic system to facilitate the career management of Federal employees in acquisition occupations; to ensure that employees meet mandated training requirements; and to effectively manage training funds and the size and qualifications of the Federal acquisition workforce. The system provides to management and to employees in the system up-to-date information on employee certification levels, qualification standards, academic degrees, mandatory and other pertinent training, and warrant status.

Routine uses of the system records, including categories of users and their purpose for using the system:

System information may be accessed and used by employees themselves and their supervisors, designated analysts and managers, and training centers, to track, verify, and update system information. Designated program managers will use the information to manage training funds and the size and strength of the Federal acquisition workforce.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or staff on behalf of and at the request of the individual who is the subject of the record.

f. To a Federal agency in connection with the hiring or retention of an employee; the issuance of a security clearance; the reporting of an investigation; the letting of a contract; or the issuance of a grant, license, or other benefit to the extent that the information is relevant and necessary for a decision.

g. To authorized officials of the agency that provided the information for inclusion in ACMIS.

h. To an expert, consultant, or contractor of GSA in the performance of a Federal duty to which the information is relevant.

i. To the National Archives and Records Administration (NARA) for records management purposes.

j. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

Policies and practices for storing, retrieving, accessing, retaining, and disposing of system records:

Storage:

All records are stored electronically in web-based computer format.

Retrievability:

Records are retrievable by name and/or Social Security Number. Group records are retrieved by organizational code.

Safeguards:

System records are safeguarded in accordance with the requirements of the Privacy Act. Access is limited to authorized individuals with passwords, and the database is maintained behind a firewall certified by the National Computer Security Association.

Retention and disposal:

System records are retained and disposed of according to GSA records maintenance and disposition schedules and the requirements of the National Archives and Records Administration.

System manager(s) and address:

Director, Federal Acquisition Institute (MVI), General Services Administration, 9820 Belvoir Road, Bldg. 205, Fort Belvoir, VA 22060.

Notification procedure:

Individuals wishing to inquire if the system contains information about them should contact the system manager at the above address.

Record access procedure:

Individuals wishing to access their own records may do so by password. Requests for access also may be directed to the system manager.

Contesting record procedure:

Individuals in the system may amend their own records online, or, as appropriate, request their manager or supervisor to amend the record.

Record source categories:

The sources for information in the system are the individuals for whom the records are maintained, the supervisors of those individuals, existing agency systems, and the Office of the Personnel Management's (OPM) Central Personnel Data File (CPDF).

[FR Doc. E7-22531 Filed 11-16-07; 8:45 am]

BILLING CODE 6820-RH-P